DEPARTMENT OF DEFENSE

Office of the Secretary

Renewal of the Planning and Steering Advisory Committee (Navy)

ACTION: Notice.

SUMMARY: The Planning and Steering Advisory Committee (PSAC) has been renewed in consonance with the public interest, and in accordance with the provisions of Public Law 92-463, the “Federal Advisory Committee Act.”

The PSAC provides an avenue of communications by which a distinguished group representing scientific, academic engineering and intelligence communities advises the Chief of Naval Operations on questions related to SSBN Security. Their mission is to make in-depth technical assessments of U.S. and foreign threat ASW developments and related technologies, to critically review programs which potentially impact SSBN survivability, and to evaluate intelligence efforts to identify and define ASW and SSBN survivability threats.

The Committee will continue to be composed of selected Group members to conduct detailed examinations of matters related to SSBN security.

FOR FURTHER INFORMATION CONTACT: Laura Wurzer, telephone: 301-693-0934.

Dated: October 8, 2004.
L.M. Bynum,
OSD Federal Register Liaison Officer, Department of Defense.

[FR Doc. 04-23114 Filed 10-14-04; 8:45 am]

BILLING CODE 5001-06-M